DEPARTMENT OF LABOR

Employment and Training Administration

Proposed Information Collection Request Submitted for Public Comment and Recommendations; Job Corps Health Questionnaire

ACTION: Notice.

SUMMARY: The Department of Labor, as part of its continuing effort to reduce paperwork and respondent burden conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, the Office of Job Corps is soliciting comments concerning Health Questionnaire, Form ETA 6-53. The following are the major changes in the revised ETA 6-53 Form and Instructions:

Expanded Purpose—The purpose of this form has been expanded to include questions to determine whether an otherwise-eligible applicant offered enrollment may pose a direct threat to self or others.

Added information to Instructions—To comply with regulatory requirements, language has been added to the instructions to ensure that applicants are provided with appropriate information before medical or disability. (Instructions)

Added direct threat questions—To determine whether an otherwise-eligible applicant offered enrollment may pose a direct threat to self or others. The purpose of these questions is to prevent illness, injury, or death on centers. (Question 8 l-w)

Added new conditions—To better determine the health and accommodation/ modification needs of the applicant who has been offered enrollment, several new conditions have been added. (Question 9)

Added authorization to provide basic oral care—This will eliminate the need for the student to sign a separate authorization to receive basic oral care and provides a description of what is included in basic oral care. (Authorization Section)

Added requirement for AC to provide information—To ensure all applicants are informed of the health care to be provided by Job Corps, the AC is now required to provide each applicant a copy of the types of care that are considered “basic routine health care” from the Job Corps Policy and Requirements Handbook (currently Exhibit 6-4) before the ETA 6-53 is signed. (General Instructions)

A copy of the proposed information collection request (ICR) can be obtained by contacting the office listed below in the addressee section of this notice or at this Web site: http://www.doleta.gov/OMBCN/OMBControlNumber.cfm.

DATES: Written comments must be submitted to the office listed in the addressee section below on or before June 4, 2007.

ADDRESSES: Barbara J. Grove, RN, National Nurse Consultant, Office of Job Corps, Room N-4456, 200 Constitution Avenue, NW., Washington, DC 20210. Phone (202) 693-3116 (this is not a toll-free number), fax number (202) 693-3850 or e-mail: grove.barbara@dol.gov.

SUPPLEMENTARY INFORMATION:

I. Background

The Job Corps Program is described in its enabling legislation under Public Law 105-220, Workforce Investment Act of 1998, as amended by Public Law 105-277. Section 145 establishes standards and procedures for obtaining data from each applicant relating to their needs. The Department of Labor's regulation at 20 CFR 670.410 further details the recruitment and screening of applicants.

Individuals who wish to enroll in the Job Corps Program must first be determined to be eligible and selected for enrollment. This process is carried out by admissions agencies, including state employment services, contracted to recruit young people for the Job Corps Program. The admission process ensures that applicants meet all the admission criteria as defined in the Policy and Requirement Handbook (PRH) Chapter 1, Outreach and Admissions, July 2001. Nonmedical personnel in the admissions office (admissions counselors) conduct the admission interview and complete the required application forms. The ETA 6-53 is completed on all applicants that have been determined to be eligible and selected for the Job Corps Program.

II. Review Focus

The Department of Labor is particularly interested in comments which:

• Evaluate whether the proposed collection of information is necessary for the proper performance of the functions of the agency, including whether the information will have a practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type Of Review: Revision of a Currently Approved Collection.

Agency: Employment and Training Agency.

Title: Job Corps Health Questionnaire: form ETA 6-53.

OMB Number: 1205-0033.

Agency Number: ETA 6-53.

Recordkeeping: The applicant is not required to retain the records; admissions counselors or contractor's main offices are required to retain records of applicants who are enrolled in the program for three years from the date of application.

Affected Public: Individuals or households.

Total Responses: 87,943.

Estimated Total Burden Hours: 7,329.

Total Burden Cost: $821,399.

Comments submitted in response to this comment request will be summarized and/or included in the request for Office of Management and Budget approval of the information collection request: they will also become a matter of public record.

Dated: March 26, 2007.
Esther R. Johnson,
Administrator, Office of Job Corps.

[FR Doc. E7-6133 Filed 4-2-07; 8:45 am]

BILLING CODE 4510-30-P